DEPARTMENT OF LABOR

Employment and Training Administration

[TA-W-72,128]

Samsung Austin Semiconductor, LLC, DRAM Fab 1, a Subsidiary of Samsung Electronics Corporation, Including On-Site Leased Workers From Manpower and Amtech Systems, Inc., Austin, TX; Amended Certification Regarding Eligibility To Apply for Worker Adjustment Assistance

In accordance with Section 223 of the Trade Act of 1974, as amended (“Act”), 19 U.S.C. 2273, the Department of Labor issued a Certification of Eligibility to Apply for Worker Adjustment Assistance on January 14, 2009, applicable to workers of Samsung Austin Semiconductor, LLC, a subsidiary of Samsung Electronics Corporation, DRAM Fab 1, including on-site leased workers from Manpower, Austin, Texas. The notice will be published in the Federal Register soon.

At the request of the State Agency, the Department reviewed the certification for workers of the subject firm. The workers are engaged in activities related to the production of DRAM chips for use in electronics.

The company reports that on-site leased workers from Amtech Systems, Inc. were employed on-site at the Austin, Texas location of Samsung Austin Semiconductor, LLC, a subsidiary of Samsung Electronics Corporation, DRAM Fab 1. The Department has determined that these workers were sufficiently under the control of the subject firm to be considered leased workers.

Based on these findings, the Department is amending this certification to include workers leased from Amtech Systems, Inc., working on-site at the Austin, Texas location of Samsung Austin Semiconductor, DRAM FAB 1.

The amended notice applicable to TA-W-72,128 is hereby issued as follows:

All workers of Samsung Austin Semiconductor, DRAM Fab 1, a subsidiary of Samsung Electronics corporation, including on-site leased workers of Manpower and Amtech Systems, Inc., Austin, Texas, who became totally or partially separated from employment on or after August 26, 2008, through January 14, 2012, and all workers in the group threatened with total or partial separation from employment on the date of certification through two years from the date of certification, are eligible to apply for adjustment assistance under Chapter 2 of Title II of the Trade Act of 1974, as amended.

Signed in Washington, DC, this 28th day of January, 2010.
Michael W. Jaffe,
Certifying Officer, Division of Trade Adjustment Assistance.

[FR Doc. 2010-4248 Filed 3-1-10; 8:45 am]

BILLING CODE 4510-FN-P